FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on the proposed new information collections. In accordance with the Paperwork Reduction Act of 1995 (44 U.S.C. 3506(c)(2)(A)), this notice seeks comments concerning The National Flood Insurance Telephone Response Center (TRC) and Leads Application Program.

SUPPLEMENTARY INFORMATION: The National Flood Insurance Program (NFIP) plays a critical role in FEMA's mission for reducing flood losses. Through the NFIP, communities must adopt and enforce floodplain management ordinances to reduce future flood losses. In exchange, FEMA's NFIP makes federally backed flood insurance available to property owners in these participating communities. According to the Flood Disaster Protection Act of 1973, Congress Findings and Declaration of Purpose, Section 2(a)(6), Congress finds that it is the public interest for persons already living in flood prone areas to have an opportunity to purchase flood insurance and access to more adequate limits of coverage, so that they will be indemnified for their losses in the event of future flood disasters. In accordance with this finding, FEMA attempts to fulfill the requirement of The Flood Disaster Protection Act of 1973 by informing and educating potential purchasers of the requirements to purchase flood insurance, when they call the National Flood Insurance Telephone Response Center (TRC).

Collection of Information

Title: National Flood Insurance Telephone Response Center (TRC) and Leads Application Program.

Type of Information Collection: New.

Form Numbers: FEMA Form 81-95, Free Flood Insurance Leads.

Abstract: The National Flood Insurance Telephone Response Center (TRC) and Leads Application Program were established as part of FEMA Cover America Advertising Campaign in 1995. The TRC is designed to respond to customer inquires about flood insurance, offers to send customers general information on the National Flood Insurance Program (NFIP), refer customers to insurance agents, and inform customers of insurance agents that can write flood insurance policies in the area in which they live.

Affected Public: Individuals or Households, and Business or Other For-Profit.

Estimated Total Annual Burden Hours:

| No. of respondents (A) | Frequency of response (B) | Hours per response (C) | Annual burden hours (A × B × C)
Callers to the Telephone Response Center | 72,000 | 1 | 3 | 3,600
Lead Program Application FEMA Form 81-95 | 448 | 1 | 2 | 15
Outbound Calls Follow-up | 6,000 | 1 | 3 | 300
Total | 78,448 | 1 | 8 | 3,915

Estimated Cost: $1,050,000 for Contracts.

Comments

Written comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Program Services Division, Operations Support Directorate, Federal Emergency Management Agency, 500 C Street, SW., Room 316, Washington, DC 20472.

FOR FURTHER INFORMATION CONTACT: Contact Carolyn Goss, Federal Insurance Administration, Marketing Division, 202-646-3468 for additional information. You may contact Ms. Anderson at (202) 646-2625 or facsimile number (202) 646-3347 or by email at muriel.Anderson@fema.gov for copies of the proposed collection of information.

Dated: April 30, 2001.
Reginald Trujillo,
Director, Program Services Division, Operations Support Directorate.

[FR Doc. 01-11362 Filed 5-4-01; 8:45 am]

BILLING CODE 6718-01-P